DEPARTMENT OF HEALTH AND HUMAN SERVICES

Health Resources and Services Administration

Public Readiness and Emergency Preparedness Act Countermeasures Injury Compensation Program, Procedures for Submitting a Letter of Intent To File Requests for Benefits

AGENCY: Health Resources and Services Administration, HHS.

ACTION: Notice.

SUMMARY: The Secretary of Health and Human Services (HHS) announces procedures for submitting a Letter of Intent to File a Request for Benefits under the Countermeasures Injury Compensation Program (CICP). The CICP administers the compensation program authorized by the Public Readiness and Emergency Preparedness Act (PREP Act). The PREP Act provides compensation to individuals for serious physical injuries or deaths from pandemic, epidemic, or security countermeasures identified in declarations issued by the Secretary pursuant to section 319F-3(b) of the Public Health Service Act, as amended (42 U.S.C. 247d-6d, 247d-6e). A PREP Act declaration by the Secretary of the Department of Health and Human Services specifies the countermeasures and the categories of health threats or conditions for which the countermeasures are recommended, the period liability protections are in effect, the population of individuals protected, and the geographic areas for which the protections are in effect.

The CICP has not yet finalized the administrative policies and procedures (i.e., regulations) that will govern the CICP. These administrative policies and procedures will include the necessary forms and instructions for filing a Request Package. Once these policies and procedures are developed, they will be published in the Federal Register as an Interim Final Rule, and the public will have an opportunity to provide comments. These materials will also be posted on the CICP Web site at http://www.hrsa.gov/countermeasurescomp. Until the regulation is finalized and the forms and instructions for filing are available, the CICP will continue to accept a Letter of Intent to File a Request for Benefits from people who wish to request for compensation under the CICP. For more information on how to submit a Letter of Intent to File a Request for Benefits with the CICP, or to obtain general Program information, please visit the CICP Web site above.

ADDRESSES: A Letter of Intent to File a Request for Benefits under the CICP must be mailed to the Health Resources and Services Administration, Countermeasures Injury Compensation Program, Request for Benefits, Room 11C-26, 5600 Fishers Lane, Rockville, Maryland 20857.

DATES: The procedures established by this notice shall take effect immediately.

FOR FURTHER INFORMATION CONTACT: HRSA Call Center at 1-888-ASK-HRSA (1-888-275-4772) or visit the CICP's Web site: http://www.hrsa.gov/countermeasurescomp.

SUPPLEMENTARY INFORMATION:

Introduction

For the full text of the Act, individuals may consult the CICP Web site at http://www.hrsa.gov/countermeasurescomp/prep_act.htm.

Statutory Procedures

Requesters must submit either a Letter of Intent to File a Request for Benefits or a Request Package no later than one (1) year from the date the covered countermeasure was administered or used. The forms and instructions for the submission of a Request Package will become available upon publication in the Federal Register of the policies and procedures that will govern the CICP. The timely submission of a Letter of Intent to File will meet the statutory requirement that a requester must file a Request for Benefits within the one-year time period.

Submission of a Letter of Intent To File a Request for Benefits

Until the forms and instructions for filing are available, requesters must submit a Letter of Intent to File a Request for Benefits in order to meet the filing deadline. A Letter of Intent to File must include the following information:

• The name, current address and phone number of the Requester.

• The covered countermeasure received, the date it was received, the circumstances under which the covered countermeasure was received (e.g., clinical trial sponsored by the National Institutes of Health, or as part of routine healthcare), and the name of the countermeasure recipient if the Requester is filing a death claim.

Although it is not required, a Requester may engage the services of an attorney or other representative to file the Request for Benefits on his or her behalf. However, the payment of fees and/or costs by the CICP of an attorney or other representative is not permitted.

Upon receipt of the Letter of Intent to File a Request for Benefits, the CICP will respond with an acknowledgment letter. The acknowledgement letter will include a CICP case number assigned to the Letter of Intent. Thereafter, the Requester must notify the CICP of any change of address, phone number, or representative of record.

The postmarked date of the Letter of Intent to File will be viewed as the date of filing a Request for Benefits for purposes of the one (1) year filing deadline. The CICP will notify Requesters once the regulation has been approved and published, and the forms and instructions for filing are available.

Dated: May 5, 2010.
Mary K. Wakefield,
Administrator.

[FR Doc. 2010-11340 Filed 5-11-10; 8:45 am]

BILLING CODE 4165-15-P